DEPARTMENT OF THE INTERIOR

National Park Service

[NPS-WASO-NRNHL-20461; PPWOCRADI0, PCU00RP14.R50000]

National Register of Historic Places; Notification of Pending Nominations and Related Actions

AGENCY: National Park Service, Interior.

ACTION: Notice.

SUMMARY: The National Park Service is soliciting comments on the significance of properties nominated before February 20, 2016, for listing or related actions in the National Register of Historic Places.

DATES: Comments should be submitted by April 21, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before February 20, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

DISTRICT OF COLUMBIA

District of Columbia

Jost-Kuhn House, 1354 Madison St. NW., Washington, 16000127

GEORGIA

Elbert County

Bowman Commercial Historic District, Public Square on GA 17, Bowman, 16000128

GUAM

Guam County

Chaqui'an Massacre Site, Chalan Emsley, Yigo, 16000129

IOWA

Muscatine County

Beers and St. John Company Coach Inn, 1193 Highway 6, West Liberty, 16000130

KANSAS

Douglas County

First United Methodist Church of Oregon—California Trail Segment, 867 US 40 Hwy., Lawrence, 16000132

Leavenworth County

Abernathy Furniture Company Factory (Boundary Increase), 100 N. 2nd St., Leavenworth, 16000131

Sedgwick County

Ash—Grove Historic District on East Douglas Avenue, 2100-2330 E. Douglas Ave. (evens); 114 & 117 N. Madison Ave., 111 N.

Sedgwick County

Spruce St.; 115-117 N. Grove St., Wichita, 16000135

Grandview Terrace Apartments, (Residential Resources of Wichita, Sedgwick County, Kansas 1870-1957 MPS), 1736-1748 N. Hillside, Wichita, 16000134

Wabaunsee County

Eskridge Bandstand, Eskridge Cty Park, bet. 4th, 5th, Main & Pine Sts., Eskridge, 16000133

MAINE

Androscoggin County

Danville Junction Grange #65, 15 Grange St., Auburn (Danville), 16000138

Excelsior Grange #5, 446 Harris Hill Rd., Poland, 16000137

Kennebec County

Starling Grange #156 (former), 2769 Main St. (ME 17), Fayette, 16000136

MASSACHUSETTS

Hampden County

St John's Congregational Church & Parsonage—Parish for Working Girls, 69 Hancock St., Springfield, 16000140

Norfolk County

Union Station, West St., Walpole, 16000139

MONTANA

Fergus County

Stafford's Grocery, 201 Main St., Winifred, 16000141

Gallatin County

Elkhorn Ranch Historic District, 33133 Gallatin Rd., Gallatin Gateway, 16000142

NEW HAMPSHIRE

Carroll County

Green Pastures, Address Restricted, Sandwich, 16000145

Hillsborough County

Francestown Town Hall and Academy and Town Common Historic District, 2 New Boston Rd., Francestown, 16000143

Rockingham County

Centennial Hall, 105 Post Rd., North Hampton, 16000144

SOUTH CAROLINA

Anderson County

Ginn, B.J. House, 106 Webb St., Anderson, 16000146

WASHINGTON

King County

Cambridge Apartments, 903 Union St., Seattle, 16000148

Yakima County

First Baptist Church, 515 East Yakima Ave., Yakima, 16000147

WISCONSIN

Marathon County

Manson, Charles L. and Dorothy, House, 1224 Highland Park Blvd., Wausau, 16000149

Authority: 60.13 of 36 CFR part 60.

Dated: February 25, 2016.
J. Paul Loether,
Chief, National Register of Historic Places/National Historic Landmarks Program.

[FR Doc. 2016-07820 Filed 4-5-16; 8:45 am]

BILLING CODE 4312-51-P